INTERNATIONAL TRADE COMMISSION

[USITC SE-06-009]

Sunshine Act Meeting

Agency Holding the Meeting: United States International Trade Commission.

Time and Date: February 8, 2006 at 11 a.m.

Place: Room 101, 500 E Street, SW., Washington, DC 20436, Telephone: (202) 205-2000.

Status: Open to the public.

Matters To Be Considered:

1. Agenda for future meetings: none.

2. Minutes.

3. Ratification List.

4. Inv. No. 731-TA-1089 (Final)(Certain Orange Juice from Brazil)—briefing and vote. (The Commission is currently scheduled to transmit its determination and Commissioners' opinions to the Secretary of Commerce on or before February 21, 2006.)

5. Outstanding action jackets: None.

In accordance with Commission policy, subject matter listed above, not disposed of at the scheduled meeting, may be carried over to the agenda of the following meeting.

Issued: January 25, 2006.
By order of the Commission.
Marilyn R. Abbott,
Secretary to the Commission.

[FR Doc. 06-866 Filed 1-25-06; 3:48 pm]

BILLING CODE 7020-02-P